DEPARTMENT OF HEALTH AND HUMAN SERVICES

The National Institutes of Health

Submission for OMB Review; Comment Request; Customer/Partner Satisfaction Surveys The Effectiveness of the National Institute on Drug Abuse's Publications Project

Summary: Under the provisions of Section 3507(a)(1)(D) of the Paperwork Reduction Act of 1995, the National Institute on Drug Abuse (NIDA), the National Institutes of Health (NIH) has submitted to the Office of Management and Budget (OMB) a request for review and approval of the information collection listed below. This proposed information collection was previously published in the Federal Register on June 3, 2003, page 33168 and allowed 60-days for public comment. No public comments were received. The purpose of this notice is to allow an additional 30 days for public comment. The National Institutes of Health may not conduct or sponsor, and the respondent is not required to respond to, an information collection that has been extended, revised, or implemented on or after October 1, 1995, unless it displays a current valid OMB control number.

Proposed Collection: Title: The Effectiveness of NIDA's Publications Project. Type of Information Collection Request: New. Need and Use of Information Collection: This is a request for a three-year generic clearance to study the level of customer satisfaction in relation to public health information publications produced by the Institute. This effort is made according to Executive Order 12862, which directs Federal agencies that provide significant services directly to the public to survey customers to determine the kind and quality of services they want and their level of satisfaction with existing services. The primary purpose of the Project is to assess NIDA's effectiveness in developing and disseminating selected public health information publications designed to promote the use of science-based evidence to improve drug abuse and addiction prevention, treatment, and policy. A multi-method approach (survey, in-person interviews, focus groups) will be used to determine the use and usefulness of selected NIDA public health information publications for several of NIDA's key audiences. Measures will include outcomes associated with the following variables: Knowledge/awareness of the publications, receipt of the publications, reading of the publications, use of the publications, perceived utility of the publications, and the impact of the publications on the use of science-based evidence to improve drug abuse and addiction prevention, treatment, and policy. Frequency of Response: Respondents will not be asked to respond more frequently than annually or biennially Affected Public: Individuals or households; state or local governments; organizations; businesses or educational institutions. Type of Respondents: Community coalition leaders, drug abuse treatment and prevention service providers, drug abuse researchers, Native Americans, middle school science and health educators, public health policy makers and public health officials, and the general public. The annual reporting burden is as follows: Estimated Number of Respondents: 7,442. Estimated Number of Responses per Respondent: 1.14. Average Burden Hours Per Response: 424. Estimated Total Annual Burden Hours Requested: 3,267. There are no Capital Costs to report. There are no Operating or Maintenance Costs to report. The estimated annualized burden is summarized below.

Type of respondents | Estimated number of respondents | Estimated number of responses per respondent | Average burden hours per response | Estimated total burden hours
1. Community Coalition Leaders | 1782 | 2 | 0.26 | 926
2. Drug Abuse Treatment and Prevention Service Providers | 6042 | 1 | 0.42 | 2537
3. Drug Abuse Researchers | 6020 | 1 | 0.42 | 2528
4. Native Americans and Native American Intermediaries | 50 | 1 | 1.14 | 57
5. Middle School Science and Health Educators | 3532 | 1 | 0.51 | 1801
6. Public Health Policy Makers and Public Health Officials | 1800 | 1 | 0.36 | 648
7. The General Public | 3100 | 1 | 0.42 | 1302
Total | 22,326 | 1.14 | .424 | 9,801
Annualized Burden Total | 7,442 |  |  | 3,267

Request for Comments: Written comments and/or suggestions from the public and affected agencies are invited on one or more of the following points: (1) Whether the proposed collection of information is necessary for the proper performance of the functions of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs, New Executive Office Building, Room 10235, Washington, DC 20503, Attention: Desk Officer for NIH. To request more information on the proposed project or to obtain a copy of the data collection plans and instruments, contact: Denise Pintello, Project Officer, Office of Science Policy and Communications, NIDA/NIH/DHHS, 6001 Executive Boulevard, MSC 9591, Bethesda, MD 20892; or call non-toll-free number (301) 443-6071; fax (301) 443-6277; or e-mail your request, including your address to: dp276v@nih.gov.

Comments Due Date: Comments regarding this information collection are best assured of having their full effect if received within 30 days of the date of this publication.

Dated: September 22, 2003.
Laura Rosenthal,
Executive Officer, National Institute for Drug Abuse, National Institutes of Health.

[FR Doc. 03-24459 Filed 9-26-03; 8:45 am]

BILLING CODE 4140-01-M